SUSQUEHANNA RIVER BASIN COMMISSION

Grandfathering (GF) Registration Notice

AGENCY: Susquehanna River Basin Commission.

ACTION: Notice.

SUMMARY: This notice lists Grandfathering Registration for projects by the Susquehanna River Basin Commission during the period set forth in DATES.

DATES: July 1-31, 2021.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries may be sent to the above address.

SUPPLEMENTARY INFORMATION: This notice lists GF Registration for projects, described below, pursuant to 18 CFR 806, Subpart E for the time period specified above:

Grandfathering Registration Under 18 CFR Part 806, Subpart E

1. Benton Municipal Water & Sewer Authority—Public Water Supply System, GF Certificate No. GF-202107175, Benton Township, Columbia County, Pa.; Artesian Well No. 1; Issue Date: July 22, 2021.

2. The Procter & Gamble Paper Products Company—Mehoopany Plant, GF Certificate No. GF-202107176, Washington Township, Wyoming County, Pa.; Susquehanna River and Well 4; Issue Date: July 22, 2021.

3. TTGC, Inc.—Tree Top Golf Course, GF Certificate No. GF-202107177, Mount Joy Township, Lancaster County, Pa.; Hole 13 Well, Hole 15 Well, Hole 17 Well, and Hole 5 Pond; Issue Date: July 22, 2021.

4. Jersey Shore Steel Company—Jersey Shore Steel, GF Certificate No. GF-202107178, Pine Creek Township, Clinton County, Pa.; the Well and consumptive use; Issue Date: July 27, 2021.

5. West St. Clair Township-Pleasantville Borough Municipal Authority—Public Water Supply System, GF Certificate No. GF-202107179, West St. Clair Township and Pleasantville Borough, Bedford County, Pa.; Well 001; Issue Date: July 27, 2021.

Dated: August 17, 2021
Jason E. Oyler,
General Counsel and Secretary to the Commission.

[FR Doc. 2021-17882 Filed 8-19-21; 8:45 am]

BILLING CODE 7040-01-P